DEPARTMENT OF HOMELAND SECURITY

Office of the Secretary

Public Workshop: Privacy Compliance Fundamentals—PTAs, PIAs, and SORNs

AGENCY: Privacy Office, DHS.

ACTION: Notice announcing public workshop.

SUMMARY: The Department of Homeland Security Privacy Office will host a public workshop, “Privacy Compliance Fundamentals—PTAs, PIAs, and SORNs.”

DATES: The workshop will be held on June 10, 2009, from 9 a.m. to 4:30 p.m.

ADDRESSES: The workshop will be held in the auditorium at the DHS Offices at the GSA Regional Headquarters Building located at 7th and D Streets, SW., Washington, DC, 20024.

FOR FURTHER INFORMATION CONTACT: Tamara Baker, Privacy Office, Department of Homeland Security, Washington, DC 20528; by telephone 703-235-0780; by facsimile 703-235-0442; or by e-mail at privacyworkshop@dhs.gov.

SUPPLEMENTARY INFORMATION: The Department of Homeland Security (DHS) Privacy Office is holding a public workshop that will provide in-depth training on the privacy compliance process at DHS, and specifically how to write privacy impact assessments (PIAs) and systems of records notices (SORNs). A case study will be used to illustrate a step-by-step approach to researching, preparing, and writing these documents. The workshop will highlight Official Guidance for the Privacy Impact Assessments and Systems of Records Notices.

The workshop is open to the public and there is no fee for attendance. Registration and Security: In order to facilitate security requirements of the GSA facility, attendees must register in advance for this workshop. Registration closes at 9 a.m., Monday, June 8, 2009. To register, please send an e-mail to privacyworkshop@dhs.gov, with the name of the workshop (“Privacy Compliance Fundamentals—PTAs, PIAs, and SORNs”) in the subject line, and your full name and organizational affiliation in the body of the e-mail. Alternatively, you may call 703-235-0780 to register and to provide the Privacy Office with your full name and organizational affiliation.

All attendees who are employed by a federal agency will be required to show their federal agency employee photo identification badge to enter the building. Attendees who do not possess a federal agency employee photo identification badge will need to show a form of government-issued photo identification, such as a driver's license, in order to verify their previously provided registration information. This is a security requirement of the facility.

The Privacy Office will only use your name for the security purposes of this specific workshop and to contact you in the event of a change to the workshop.

Special Assistance: Persons with disabilities who require special assistance should indicate this in their admittance request and are encouraged to identify anticipated special needs as early as possible.

Mary Ellen Callahan,
Chief Privacy Officer, Department of Homeland Security.

[FR Doc. E9-12189 Filed 5-22-09; 8:45 am]

BILLING CODE 9110-9L-P